DEPARTMENT OF ENERGY

Federal Energy Regulatory Commission

[Docket No. QF09-321-000]

East Bay Municipal Utility District; Notice of Filing of Notice of Self-Certification of Qualifying Status of a Cogeneration Facility

April 22, 2009.

Take notice that on April 3, 2009, East Bay Municipal Utility District filed with the Federal Energy Regulatory Commission a notice of self-certification of a facility as a qualifying cogeneration facility pursuant to 18 CFR 292.207(a) of the Commission's regulations.

The East Bay Municipal Utility District facility is a cogeneration facility. The Power Generation Station consists of three internal combustion engine/generators, each rated at 2.15 MW capacity for total capacity of 6.45 MW. The dual fuel engines operate primarily on biogas (from anaerobic digestion), however a small amount (<1% total fuel) is used for pre-combustion ignition. This location of the facility is located at 2020 Wake Avenue, Oakland, California.

Pacific Gas & Electric (PG&E) is the electric utility to which the facility interconnects. Generation is used primarily to meet on-site demand for wastewater treatment (distribution generation), however, any surplus is sold to PG&E. The Western Area Power Administration provides supplemental power to the wastewater plant, wheeled via the PG&E distribution system.

A notice of self-certification does not institute a proceeding regarding qualifying facility status; a notice of self-certification provides notice that the entity making the filing has determined the Facility meets the applicable criteria to be a qualifying facility. Any person seeking to challenge such qualifying facility status may do so by filing a motion pursuant to 18 CFR 292.207(d)(iii).

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Kimberly D. Bose,
Secretary.

[FR Doc. E9-9707 Filed 4-28-09; 8:45 am]

BILLING CODE 6717-01-P